COMMODITY FUTURES TRADING COMMISSION

Renewal of the Global Markets Advisory Committee

AGENCY: Commodity Futures Trading Commission.

ACTION: Notice of renewal.

SUMMARY: The Commodity Futures Trading Commission (Commission) is publishing this notice to announce the renewal of the Global Markets Advisory Committee (GMAC). The Commission has determined that the renewal of the GMAC is necessary and in the public's interest, and the Commission has consulted with the General Services Administration's Committee Management Secretariat regarding the GMAC's renewal.

FOR FURTHER INFORMATION CONTACT: Keaghan Ames, GMAC Designated Federal Officer, at 202-418-5644 or kames@cftc.gov.

SUPPLEMENTARY INFORMATION: The GMAC's objectives and scope of activities shall be to conduct public meetings, and to submit reports and recommendations on matters of public concern to the Commission; financial market infrastructures; intermediaries including swap dealers; advisors, end-users, and other market participants; service providers; international standard setting bodies; regulators; and others interested in or affected by the regulatory challenges of global markets, which reflect the increasing interconnectedness of markets and the multinational nature of business. The GMAC will help the Commission to identify methods to improve both U.S. and international regulatory structures without unnecessary regulatory or operational impediments to global business and while still preserving core protections for customers and other market participants. The GMAC will also promote international engagement through its recommendations and make recommendations for appropriate international standards for regulating futures, swaps, options, and derivatives markets, as well as intermediaries. In addition, the GMAC will assist the Commission in assessing the impact of the Commission's international efforts and the initiatives of foreign regulators and market authorities, including the impact on U.S. markets and firms.

The GMAC will operate for two years from the date of renewal unless the Commission directs that the GMAC terminate on an earlier date. A copy of the GMAC renewal charter has been filed with the Commission; the Senate Committee on Agriculture, Nutrition and Forestry; the House Committee on Agriculture; the Library of Congress; and the General Services Administration's Committee Management Secretariat. A copy of the renewal charter will be posted on the Commission's website at www.cftc.gov.

Dated: August 16, 2022.
Christopher Kirkpatrick,
Secretary of the Commission.

[FR Doc. 2022-17917 Filed 8-18-22; 8:45 am]

BILLING CODE 6351-01-P